DEPARTMENT OF ENERGY

Federal Energy Regulatory Commission

Combined Notice of Filings #2

Take notice that the Commission received the following electric rate filings:

Docket Numbers: ER13-1937-002.

Applicants: Southwest Power Pool, Inc.

Description: Compliance filing: Order No. 1000 Interregional SPP-MISO JOA Compliance Filing to be effective 3/30/2014.

Filed Date: 8/18/15.

Accession Number: 20150818-5203.

Comments Due: 5 p.m. ET 9/8/15.

Docket Numbers: ER15-2506-000.

Applicants: Southwest Power Pool, Inc.

Description: Section 205(d) Rate Filing: SPP-Western Area Power Administration Joint Operating Agreement Extension to be effective 6/21/2015.

Filed Date: 8/21/15.

Accession Number: 20150821-5158.

Comments Due: 5 p.m. ET 9/11/15.

Docket Numbers: ER15-2507-000.

Applicants: Southwest Power Pool, Inc.

Description: Section 205(d) Rate Filing: 1976R4 Kaw Valley Electric Cooperative, Inc. NITSA and NOA to be effective 8/1/2015.

Filed Date: 8/21/15.

Accession Number: 20150821-5185.

Comments Due: 5 p.m. ET 9/11/15.

Docket Numbers: ER15-2508-000.

Applicants: Southwest Power Pool, Inc.

Description: Section 205(d) Rate Filing: 2045R4 Westar Energy, Inc. NITSA and NOA to be effective 8/1/2015.

Filed Date: 8/21/15.

Accession Number: 20150821-5190.

Comments Due: 5 p.m. ET 9/11/15.

Docket Numbers: ER15-2509-000.

Applicants: PJM Interconnection, L.L.C.

Description: Section 205(d) Rate Filing: Original Service Agreement No. 4242; Queue Z1-092 (ISA) to be effective 7/23/2015.

Filed Date: 8/21/15.

Accession Number: 20150821-5193.

Comments Due: 5 p.m. ET 9/11/15.

Take notice that the Commission received the following qualifying facility filings:

Docket Numbers: QF15-978-000.

Applicants: Riverside Fuel Cell, LLC.

Description: Form 556 of Riverside Fuel Cell, LLC under QF15-978.

Filed Date: 8/19/15.

Accession Number: 20150819-5204.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2015.
Nathaniel J. Davis, Sr.,
Deputy Secretary.

[FR Doc. 2015-21230 Filed 8-26-15; 8:45 am]

BILLING CODE 6717-01-P